DEPARTMENT OF THE INTERIOR

Fish and Wildlife Service

[DOI-2022-0009; FF10T03000/234/FXGO16640970500]

Privacy Act of 1974; System of Records

AGENCY: U.S. Fish and Wildlife Service, Interior.

ACTION: Rescindment of a system of records notice.

SUMMARY: The Department of the Interior (DOI) is issuing a public notice of its intent to rescind the U.S. Fish and Wildlife Service (FWS) Privacy Act system of records, INTERIOR/FWS-25, Contract and Procurement Records, from its existing inventory.

DATES: These changes take effect on December 2, 2022.

ADDRESSES: You may send comments identified by docket number [DOI-2022-0009] by any of the following methods:

• Federal eRulemaking Portal: http://www.regulations.gov. Follow the instructions for sending comments.

• Email: DOI_Privacy@ios.doi.gov. Include docket number [DOI-2022-0009] in the subject line of the message.

• U.S. mail or hand-delivery: Teri Barnett, Departmental Privacy Officer, U.S. Department of the Interior, 1849 C Street NW, Room 7112, Washington, DC 20240.

Instructions: All submissions received must include the agency name and docket number [DOI-2022-0009]. All comments received will be posted without change to http://www.regulations.gov, including any personal information provided.

Docket: For access to the docket to read background documents or comments received, go to http://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Jennifer L. Schmidt, Associate Privacy Officer, U.S. Fish and Wildlife Service, 5275 Leesburg Pike, MS: IRTM, Falls Church, VA 22401, FWS_Privacy@fws.gov or (703) 358-2291.

SUPPLEMENTARY INFORMATION: Pursuant to the provisions of the Privacy Act of 1974, as amended, 5 U.S.C. 552a, FWS is rescinding the INTERIOR/FWS-25, Contract and Procurement Records, system of records notice (SORN) and removing it from its system of records inventory. This system was used by FWS contracting officers and technical representatives to evaluate contract proposals submitted by members of the public. During a routine review, FWS determined that INTERIOR/FWS-25 SORN was superseded by INTERIOR/DOI-87, Acquisition of Goods and Services: FBMS, 73 FR 43766 (July 28, 2008), modification published at 86 FR 50156 (September 7, 2021), a Department-wide SORN for the Financial and Business Management System (FBMS), which supports DOI business and financial management functions for all bureaus and offices, including all procurement and contracting activity. Therefore, DOI is rescinding this FWS notice to avoid duplication of another SORN in accordance with the Office of Management and Budget Circular A-108, Federal Agency Responsibilities for Review, Reporting, and Publication under the Privacy Act.

Rescinding the INTERIOR/FWS-25, Contract and Procurement Records, SORN will have no adverse impacts on individuals as the records are covered under the INTERIOR/DOI-87, Acquisition of Goods and Services: FBMS, SORN. This rescindment will also promote the overall streamlining and management of DOI Privacy Act systems of records.

SYSTEM NAME AND NUMBER:

INTERIOR/FWS-25, Contract and Procurement Records.

HISTORY:

48 FR 54721 (December 6, 1983); modification published at 73 FR 31877 (June 4, 2008).

Teri Barnett,
Departmental Privacy Officer, Department of the Interior.

[FR Doc. 2022-26311 Filed 12-1-22; 8:45 am]

BILLING CODE 4333-15-P